NOTICE REGULATORY COMMISSION

[Docket No. 70-3098]

Notice of Opportunities for Hearings Related to Licensing the Mixed Oxide Fuel Fabrication Facility

Within the next several months, the U.S. Nuclear Regulatory Commission (NRC) expects to receive an application from Duke Cogema Stone & Webster (DCS) to construct and operate a mixed oxide (MOX) fuel fabrication facility to be located at the U.S. Department of Energy's Savannah River Site. The regulations in 10 CFR part 70 for a plutonium fuel fabrication plant contemplate two approvals—approval for construction (10 CFR 70.23(a)(7), (b)) and approval for operation (10 CFR 70.23(a)(8)). The regulations in 10 CFR part 70 do not, however, mandate a particular approval or hearing process. The appropriate approval and hearing process—one stage or two stage—will depend largely on the nature, level of detail and degree of completeness of the application. This notice is intended to inform the public of the staff's planned approach for possible hearing issues related to the MOX fuel fabrication facility.

Although the regulations do not require the applicant to submit a comprehensive and complete application covering both construction and operation before the Commission can approve commencement of construction, an applicant has the option of submitting a complete license application addressing both construction and operation at the outset. We understand, however, that DCS will be submitting an initial application (including the environmental report) focusing on siting matters and the design bases of the principal structures, systems, and components, leaving the balance of the information, including detailed design and safety evaluation issues and operating issues, to be addressed in a second submittal. In this case, a two-stage approval and hearing process is appropriate. NRC will be providing an opportunity for a hearing in connection with each of the two required approvals (approval for construction and approval for operation). Any NRC adjudicatory proceedings regarding the MOX facility would be subject to the procedural requirements of 10 CFR part 2, Subpart L.

The first hearing would encompass issues related to the construction approval, and would likely be limited to whether applicable NRC requirements have been met regarding the general design bases for the principal structures, systems, and components, the quality assurance program, and environmental issues. The second hearing would encompass all other issues related to the issuance of a 10 CFR part 70 license. Such issues would include whether operation of the MOX facility, as constructed, will adequately protect health, minimize danger to life or property, and control special nuclear material.

FOR FURTHER INFORMATION CONTACT: Timothy C. Johnson, Office of Nuclear Material Safety and Safeguards, U.S. Nuclear Regulatory Commission, Washington, DC 20555, telephone: (301) 415-7299.

Dated at Rockville, Maryland, this 11th day of January 2001.
For the Nuclear Regulatory Commission.
Eric J. Leeds,
Chief, Special Projects Branch, Division of Fuel Cycle Safety and Safeguards, Office of Nuclear Material Safety and Safeguards.

[FR Doc. 01-1598 Filed 1-19-01; 8:45 am]

BILLING CODE 7590-01-P